DEPARTMENT OF HOMELAND SECURITY

Federal Emergency Management Agency

[Docket ID FEMA-2008-0010]

Board of Visitors for the National Fire Academy

AGENCY: Federal Emergency Management Agency, DHS.

ACTION: Committee management; notice of open Federal Advisory Committee Meeting.

SUMMARY: The Board of Visitors for the National Fire Academy (Board) will meet via teleconference on March 16, 2017. The meeting will be open to the public.

DATES: The meeting will take place on Thursday, March 16, 2017, from 1:00 to 3:00 p.m. Eastern Daylight Time. Please note that the meeting may close early if the Board has completed its business.

ADDRESSES: Members of the public who wish to participate in the teleconference should contact Ruth MacPhail as listed in the FOR FURTHER INFORMATION CONTACT section by close of business March 14, 2017, to obtain the call-in number and access code. For information on services for individuals with disabilities or to request special assistance, contact Ruth MacPhail as soon as possible.

To facilitate public participation, we are inviting public comment on the issues to be considered by the Board as listed in the SUPPLEMENTARY INFORMATION section. Comments must be submitted in writing no later than March 14, 2017, and must be identified by Docket ID FEMA-2008-0010 and may be submitted by one of the following methods:

• Federal eRulemaking Portal: http://www.regulations.gov. Follow the instructions for submitting comments.

• Email: FEMA-RULES@fema.dhs.gov. Include the docket number in the subject line of the message.

• Mail/Hand Delivery: Ruth MacPhail, 16825 South Seton Avenue, Emmitsburg, Maryland 21727.

Instructions: All submissions received must include the words “Department of Homeland Security” and the Docket ID for this action. Comments received will be posted without alteration at http://www.regulations.gov, including any personal information provided.

Docket: For access to the docket to read background documents or comments received by the Board, go to http://www.regulations.gov, click on “Advanced Search,” then enter “FEMA-2008-0010” in the “By Docket ID” box, then select “FEMA” under “By Agency,” and then click “Search.”

FOR FURTHER INFORMATION CONTACT:

Alternate Designated Federal Officer: Kirby E. Kiefer, telephone (301) 447-1117, email Kirby.Kiefer@fema.dhs.gov.

Logistical Information: Ruth MacPhail, telephone (301) 447-1333 and email Ruth.Macphail@fema.dhs.gov.

SUPPLEMENTARY INFORMATION: Notice of this meeting is given under the Federal Advisory Committee Act, 5 U.S.C. Appendix.

Purpose of the Board

The purpose of the Board is to review annually the programs of the National Fire Academy (Academy) and advise the Federal Emergency Management Agency (FEMA) Administrator, through the United States Fire Administrator, on the operation of the Academy and any improvements therein that the Board deems appropriate. In carrying out its responsibilities, the Board examines Academy programs to determine whether these programs further the basic missions that are approved by the FEMA Administrator, examines the physical plant of the Academy to determine the adequacy of the Academy's facilities, and examines the funding levels for Academy programs. The Board submits a written annual report to the FEMA Administrator, through the United States Fire Administrator. The report provides detailed comments and recommendations regarding the operation of the Academy.

Agenda

The Board will discuss the direction of the Executive Fire Officer Program to include curriculum, projects, and other requirements.

There will be one 10-minute comment period after the one agenda item; each speaker will be given no more than 2 minutes to speak. Please note that the public comment period may end before the time indicated, following the last call for comments. Contact Ruth MacPhail to register as a speaker. Meeting materials will be posted at https://www.usfa.fema.gov/training/Academy/about/bov.html by February 22, 2017.

Dated: February 8, 2017.
Kirby E. Kiefer,
Acting Superintendent, National Fire Academy, United States Fire Administration, Federal Emergency Management Agency.

[FR Doc. 2017-03188 Filed 2-16-17; 8:45 am]

BILLING CODE 9111-45-P